DEPARTMENT OF HEALTH AND HUMAN SERVICES

Health Resources and Services Administration

Agency Information Collection Activities: Proposed Collection: Public Comment Request; The Division of Independent Review Grant Reviewer Recruitment Form

AGENCY: Health Resources and Services Administration (HRSA), Department of Health and Human Services.

ACTION: Notice.

SUMMARY: In compliance with the requirement for opportunity for public comment on proposed data collection projects (Section 3506(c)(2)(A) of the Paperwork Reduction Act of 1995), HRSA announces plans to submit an Information Collection Request (ICR), described below, to the Office of Management and Budget (OMB). Prior to submitting the ICR to OMB, HRSA seeks comments from the public regarding the burden estimate, below, or any other aspect of the ICR.

DATES: Comments on this ICR must be received no later than November 28, 2016.

ADDRESSES: Submit your comments to paperwork@hrsa.gov or mail the HRSA Information Collection Clearance Officer, Room 14N-29, 5600 Fishers Lane, Rockville, MD 20857.

FOR FURTHER INFORMATION CONTACT: To request more information on the proposed project or to obtain a copy of the data collection plans and draft instruments, email paperwork@hrsa.gov or call the HRSA Information Collection Clearance Officer at (301) 443-1984.

SUPPLEMENTARY INFORMATION: When submitting comments or requesting information, please include the information request collection title for reference.

Information Collection Request Title: The Division of Independent Review Grant Reviewer Recruitment Form.

OMB No. 0915-0295—Extension.

Abstract: HRSA's Division of Independent Review (DIR) is responsible for administering the review of eligible grant applications submitted to HRSA. DIR ensures that the objective review process is independent, efficient, effective, economical, and complies with the applicable statutes, regulations, and policies. Applications are reviewed by subject experts knowledgeable in health and public health disciplines for which support is requested. Review findings are advisory to HRSA programs responsible for making award decisions.

This request continues a Web-based data collection system, the Reviewer Recruitment Module (RRM), used to gather critical review participant information. The RRM uses standardized categories of information in drop down menu format for data such as the following: Degree, specialty, occupation, work setting, and in select instances affiliations with organizations and institutions that serve special populations. Some program regulations require that application objective review committees contain consumers of health services. Other demographic data may be voluntarily provided by a potential review participant. Defined data elements assist HRSA in finding and selecting expert grant review participants for objective review committees.

HRSA maintains a roster of approximately 6,000 qualified individuals who served on HRSA objective review committees. The Web-based RRM simplifies review participant registration entry using a user-friendly Graphical User Interface (GUI) with a few data drop down menu choices and a search engine that supports key word queries in the actual resume or Curriculum Vitae text. Review participants can also update their information electronically. The RRM is 508 compliant and accessible by the general public using any of the commonly used Internet browsers via a link on the HRSA “Grants” Internet site or by keying the RRM URL into their browser.

Need and Proposed Use of the Information: HRSA uses the RRM to collect information from individuals who are willing to volunteer as objective review committee participants for the Agency's discretionary and competitive grant or cooperative agreement funding opportunities. The RRM provides HRSA with an effective search and communication functionality with which to identify and contact qualified potential grant review participants. The RRM has an enhanced search and reporting capability to help DIR ensure that HRSA's review participant pool has the necessary skills and diversity to meet the ever-evolving need for qualified grant review participants. When DIR identifies an expertise, demographic need, or any other specific needs that are under-represented in the RRM pool, DIR can recruit specifically to address those needs. Expertise is always the primary determinant in selecting potential review participants for any grant review and no participant is required to provide demographic information to join the pool or be selected as a reviewer for any competition.

Likely Respondents: Individuals with experience in social, cultural, and health care fields who are knowledgeable about HRSA's mission and competitive program needs to deliver quality health care to all Americans.

Burden Statement: Burden in this context means the time expended by persons to generate, maintain, retain, disclose or provide the information requested. This includes the time needed to review instructions; to develop, acquire, install and utilize technology and systems for the purpose of collecting, validating and verifying information, processing and maintaining information, and disclosing and providing information; to train personnel and to be able to respond to a collection of information; to search data sources; to complete and review the collection of information; and to transmit or otherwise disclose the information. The total annual burden hours estimated for this ICR are summarized in the table below.

Total Estimated Annualized Burden Hours
Form name | Number of respondents | Responses per respondent | Total responses | Average burden per response (in hours) | Total burden hours
New review participants | 250 | 1 | 250 | .166 | 42
Updating review participants information | 5,000 | 1 | 5,000 | .333 | 1,665
Total | 5,250 |  | 5,250 |  | 1,707

HRSA specifically requests comments on (1) the necessity and utility of the proposed information collection for the proper performance of the agency's functions, (2) the accuracy of the estimated burden, (3) ways to enhance the quality, utility, and clarity of the information to be collected, and (4) the use of automated collection techniques or other forms of information technology to minimize the information collection burden.

Jason E. Bennett,
Director, Division of the Executive Secretariat.

[FR Doc. 2016-23306 Filed 9-27-16; 8:45 am]

BILLING CODE 4165-15-P